DEPARTMENT OF TRANSPORTATION

Pipeline and Hazardous Materials Safety Administration

Notice of Application for Special Permits

AGENCY: Office of Hazardous Materials Safety, Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before April 3, 2014.

ADDRESSES: Send comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for special permit is published in accordance with Part 107 of the Federal hazardous materials transportation law (49 U.S.C. 5117(b); 49 CFR 1.53(b)).

Issued in Washington, DC, on February 18, 2014.
Donald Burger,
Chief, General Approvals and Permits.

New Special Permits
Application No. | Applicant | Regulation(s) affected | Nature of special permit
16046-N | Rohm and Haas Electronic Materials LLC | 173.3, 173.181, and 173.187 | To authorize the transportation in commerce of a damaged cylinder containing Division 4.3 and/or 4.2 materials in a salvage cylinder. (modes 1, 2, 3)
16067-N | E.I. DuPont de Nemours | 171.25(c) & Company, Inc. | To authorize the transportation in commerce of a Division 2.2 compressed gas in non-DOT specification bulk packaging. (modes 1, 3)
16060-N | Daeryuk Can Manufacturing Co., Ltd Youngin-Myeon, Asan-Si, China | 49 CFR 173.304 | To authorize the manufacture, marking, sale and use of non-DOT specification inside containers for transportation of Isobutane/Propane mixtures. (modes 1, 2, 3)
16065-N | American Spraytech North Branch, NJ | 49 CFR 173.306(a)(3)(v) | To authorize the transportation in commerce of certain aerosols containing a Division 2.2 compressed gas in certain non-refillable aerosol containers which are not subject to the hot water bath test. (mode 1)
16074-N | Welker Inc. Sugar Land, TX | 49 CFR 173.201, 173.202, and 173.203 | To authorize the transportation in commerce of certain Class 3 liquids in non-DOT specification cylinders. (modes 1, 2, 3, 4)
16079-N | Wal-Mart Stores East, LP Bentonville, AR | 49 CFR 171.2(k) | To authorize the transportation in commerce of certain used cylinders containing Helium, compressed as fully regulated without first determining that a hazardous material is present. (mode 1)
16081-N | Cabela's Inc. Sidney, NE | 49 CFR 178.602 | To authorize the transportation in commerce of certain Division 1.4 primers and powders in packaging that has not been tested for each specific configuration. (modes 1, 2, 3, 4)

[FR Doc. 2014-04283 Filed 3-3-14; 8:45 am]

BILLING CODE 4909-60-M